DEPARTMENT OF THE INTERIOR

Fish and Wildlife Service

[FWS-R3-ES-2010-N289; 30120-1113-0000-F6]

Endangered and Threatened Wildlife and Plants; Permit Applications

AGENCY: Fish and Wildlife Service, Interior.

ACTION: Notice of availability of permit applications; request for comments.

SUMMARY: We, the U.S. Fish and Wildlife Service, invite the public to comment on the following applications to conduct certain activities with endangered species. With some exceptions, the Endangered Species Act (Act) prohibits activities with endangered and threatened species unless a Federal permit allows such activity. The Act requires that we invite public comment before issuing these permits.

DATES: We must receive any written comments on or before February 18, 2011.

ADDRESSES: Send written comments by U.S. mail to the Regional Director, Attn: Lisa Mandell, U.S. Fish and Wildlife Service, Ecological Services, 1 Federal Drive, Fort Snelling, MN 55111-4056; or by electronic mail to permitsR3ES@fws.gov.

FOR FURTHER INFORMATION CONTACT: Lisa Mandell, (612) 713-5343.

SUPPLEMENTARY INFORMATION:

Background

We invite public comment on the following permit applications for certain activities with endangered species authorized by section 10(a)(1)(A) of the Act (16 U.S.C. 1531 et seq.) and our regulations governing the taking of endangered species in the Code of Federal Regulations (CFR) at 50 CFR 17. Submit your written data, comments, or request for a copy of the complete application to the address shown in ADDRESSES.

Permit Applications

Permit Application Number: TE023666.

Applicant: Eric R. Britzke, U.S. Army Corps of Engineers, Clinton, MS.

The applicant requests a permit renewal to take (capture and release, nonlethal tissue sampling) Indiana bat (Myotis sodalis), gray bat (Myotis grisescens), Virginia big-eared bat (Corynorhinus townsendii virginianus), Ozark big eared bat (Corynorhinus townsendii ingens), and Northern flying squirrel (Glaucomys sabrinus) throughout the species' range. Proposed activities include a range of activities aimed at recovery of the species in the wild, including population assessments, monitoring, and tissue sampling.

Permit Application Number: TE105320.

Applicant: Tragus Environmental Consulting, Akron, OH.

The applicant requests a permit renewal to take (capture and release, nonlethal tissue sampling) Indiana bats and gray bats throughout the ranges of the species. Proposed activities are aimed at recovery of the species and enhancement of survival of the species in the wild.

Permit Application Number: TE31208A.

Applicant: Julian J. Lewis, Lewis & Associates LLC, Borden, IN.

The applicant requests a permit to take (capture and release) Illinois cave amphipod (Gammarus acherondytes) in Monroe County, IL, to monitor the status of the species. The proposed research is for the recovery of the species in the wild.

Permit Application Number: TE31215A.

Applicant: Christopher A. Hamm, Okemos, MI.

The applicant requests a permit to take (capture and release) Mitchell's satyr butterflies (Neonympha mitchellii mitchellii) in Alabama, Indiana, Michigan, Mississippi, and Virginia for activities to enhance the survival of the species in the wild.

Permit Application Number: TE042946-5.

Applicant: Southern Illinois University, Carbondale, IL.

The applicant requests a permit renewal/amendment to take (capture and release, hold propagated stock) Pallid sturgeon (Scaphirhynchus albus) within the Mississippi River from St. Louis, MO, to the mouth of the Ohio River. The proposed activities are for the enhancement of survival of the species in the wild.

Permit Application Number: TE206783.

Applicant: Marlo M. Perdicas, Marshallville, OH.

The applicant requests a permit renewal to take (capture and release) Indiana bats and gray bats throughout the ranges of the species. Proposed activities are for the enhancement of survival of the species in the wild.

Permit Application Number: TE113009.

Applicant: Stephen A. Ahlstedt, Norris, TN.

The applicant requests a permit renewal to take (capture and release) White cat's paw pearlymussel (Epioblasma obliquata perobliqua) and purple cat's paw pearlymussel (E.o. obliquata) throughout the State of Ohio and within DeKalb and Steuben Counties, Indiana. Proposed activities are for the enhancement of survival of the species in the wild.

Permit Application Number: TE212440.

Applicant: Bat Conservation International, Carlisle, PA.

The applicant requests a permit renewal to take (capture and release) Indiana bats and gray bats throughout Illinois, Indiana, Iowa, Michigan, Missouri, Ohio, and Wisconsin. Proposed activities are for the enhancement of survival of the species in the wild.

Permit Application Number: TE31310A.

Applicant: Minnesota Pollution Control Agency, St. Paul, MN.

The applicant requests a permit to take (capture and release) Topeka shiners (Notropis topeka) throughout the State of Minnesota. Proposed activities are for the recovery and enhancement of survival of the species in the wild.

Permit Application Number: TE207178.

Applicant: Amy L. Halsall, Geneva, IL.

The applicant requests a permit renewal to take (capture and release) Indiana bats within the States of Illinois and Indiana. Proposed activities are aimed at enhancement of survival of the species in the wild.

Permit Application Number: TE839777.

Applicant: Don R. Helms, Helms & Associates, Bellevue, IA.

The applicant requests a permit renewal to take (capture and release) the following unionid species—Clubshell (Pleurobema clava), Northern riffleshell (Epioblasma torulosa rangiana), Orange-footed pimpleback pearlymussel (Plethobasus cooperianus), Pink mucket pearlymussel (Lampsilis orbiculata), Rough pigtoe (Pleurobema plenum), Purple cat's paw pearlymussel, White cat's paw pearlymussel, Fanshell (Cyprogenia stegaria), Fat pocketbook (Potamilus capax), Higgins' eye pearlymussel (Lampsilis higginsii), Winged mapleleaf (Quadrula fragosa), and Scaleshell mussel (Leptodea leptodon)—throughout the Upper Mississippi River, its tributaries, and the Ohio River, within the States of Illinois, Indiana, Iowa, Michigan, Minnesota, Missouri, Ohio, South Dakota, and Wisconsin. Proposed activities are aimed at enhancement of survival of the species in the wild.

Permit Application Number: TE174388.

Applicant: Metroparks of the Toledo Area, Toledo, OH.

The applicant requests a permit renewal to take (harass/kill through habitat management) the Karner blue butterfly (Lycaeides melissa samuelis) within Lucas County, Ohio. Habitat management activities are proposed to enhance the recovery and survival of the species in the wild.

Permit Application Number: TE120231.

Applicant: John Timpone, Tucson, AZ.

The applicant requests an amendment to his permit to take (capture and release) Indiana bats for enhancement of survival of the species in the wild. The proposed amendment would increase the geographic area in which the applicant may work, and would add the following species to the permit if they become federally listed during the permit term: Small footed bat (Myotis leibii) and Northern long-eared bat (Myotis septentrionalis).

Permit Application Number: TE182436.

Applicant: Illinois Natural History Survey, Champaign, IL.

The applicant requests a renewal of their permit to take (capture and release) Indiana bats throughout the State of Illinois. Proposed activities are to monitor and evaluate the population to enhance the recovery and survival of the species in the wild.

Permit Application Number: TE088720.

Applicant: George T. Watters, Columbus, OH.

The applicant requests a permit renewal/amendment to take (capture and release, relocate, capture, and hold for propagation and recovery research) the following mussel species: Clubshell, Northern riffleshell, Orange-footed pimpleback pearlymussel, Pink mucket pearlymussel, Rough pigtoe, Purple cat's paw pearlymussel, White cat's paw pearlymussel, Fanshell, Fat pocketbook, Winged mapleleaf, White wartyback (Plethobathus cicatricosus), Salamander mussel (Simpsonaias ambigua), Ring pink (Obovaria retusa), Cumberland bean (Villosa trabalis), Crackling pearly mussel (Hemistena lata), Fat threeridge (Amblema neslerii), Chipola slabshell (Elliptio chipolaensis), Purple bankclimber (Elliptoideus sloatianus), Shinyrayed pocketbook (Lampsilis subangulata), Gulf moccasinshell (Medionidus penicillatus), Oval pigtoe (Pleurobema pyriforme), Sheepnose (Plethobasus cyphyus), Rayed bean (Villosa fabalis), and Spectaclecase (Cumberlandia monodonta). Proposed activities are aimed at recovery of the species and enhancement of survival in the wild.

Permit Application Number: TE135297.

Applicant: St. Louis Zoo, St. Louis, MO.

The applicant requests a renewal of permit TE135297 to capture, handle, transport, hold, and captively propagate the American burying beetle (Nicrophorus americanus). The application requests renewal of authority throughout Missouri and Arkansas. Proposed activities are aimed at recovery of the species and enhancement of survival in the wild.

Permit Application Number: TE106220.

Applicant: Brianne L. Walters, Terre Haute, IN.

The applicant requests a renewal of her permit to take (capture and release) Indiana bats in Illinois, Indiana, and Ohio. Proposed activities are for the recovery of the species and enhancement of survival of the species in the wild.

Permit Application Number: TE839763.

Applicant: John O. Whitaker, Terre Haute, IN.

The applicant requests a renewal of his permit to take (capture and release) Indiana bats and gray bats throughout the ranges of the species. Proposed activities are for the recovery of the species and enhancement of survival of the species in the wild.

Permit Application Number: TE049738.

Applicant: Third Rock Consultants, Lexington, KY.

The applicant requests a renewal of permit TE049738 to take (capture and release) Indiana bats, gray bats, Virginia big-eared bats, and Ozark big-eared bats, along with nine federally listed fish and 17 federally listed mussels, throughout the ranges of each species in USFWS's Midwest and Southeast Regions. Proposed activities are for the recovery of the species and enhancement of survival of the species in the wild.

Permit Application Number: TE212427.

Applicant: Ecology and Environment, Inc., Lancaster, NY.

The applicant requests a renewal of his permit to take (capture and release) Indiana bats, gray bats, and Ozark big-eared bats throughout the ranges of the species. Proposed activities are for the recovery of the species and enhancement of survival of the species in the wild.

Permit Application Number: TE206778.

Applicant: Field Supervisor, Twin Cities Field Office (USFWS), Bloomington, MN.

The applicant requests a renewal of his permit to take (capture and release, relocate, capture and hold) Higgins' eye pearlymussels and winged mapleleaf mussels within the States of Minnesota, Wisconsin, Illinois, and Iowa. Proposed activities are for the recovery of the species and enhancement of survival of the species in the wild.

Permit Application Number: TE207180.

Applicant: Ohio Department of Natural Resources, Division of Wildlife, Columbus, OH.

The applicant requests a permit renewal/amendment to take Karner blue butterflies within Ohio and Michigan. Proposed take of the butterfly is in the form of capture, propagation, transfer, release, and monitoring to enhance populations, as well as take through habitat restoration and management to create/maintain suitable habitat. Captive propagation is proposed to continue at the Toledo Zoological Gardens under the permit renewal and habitat management activities are proposed on State-owned and managed lands in Ohio. Proposed activities are aimed at enhancement of the recovery and survival of the species in the wild.

Permit Application Number: TE206781.

Applicant: Ecological Specialists, Inc., O'Fallon, MO.

The applicant requests a permit renewal to take (capture and release; capture and relocate) clubshell, fanshell, fat pocketbook, Higgins' eye pearlymussel, northern riffleshell, orange-footed pimpleback pearlymussel, pink mucket pearlymussel, and scaleshell mussels within Arkansas, Iowa, Illinois, Indiana, Kentucky, Michigan, Minnesota, Missouri, Nebraska, Ohio, South Dakota, Tennessee, West Virginia, and Wisconsin. Proposed activities are for the enhancement of survival of the species in the wild.

Permit Application Number: TE31861A.

Applicant: Mark Twain National Forest (Lynda Mills), Potosi, MO.

The applicant requests a permit to take (capture and release) Indiana bats and gray bats within the Mark Twain National Forest in Missouri. Proposed activities are for the enhancement of survival of the species in the wild.

Public Comments

We seek public review and comments on these permit applications. Please refer to the permit number when you submit comments. Comments and materials we receive are available for public inspection, by appointment, during normal business hours at the address shown in the ADDRESSES section. Before including your address, phone number, e-mail address, or other personal identifying information in your comment, you should be aware that your entire comment—including your personal identifying information—may be made publicly available at any time. While you can ask us in your comment to withhold your personal identifying information from public review, we cannot guarantee that we will be able to do so.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Sean Marsan,
Acting Assistant Regional Director, Ecological Services, Midwest Region.

[FR Doc. 2011-1012 Filed 1-18-11; 8:45 am]

BILLING CODE 4310-55-P